DEPARTMENT OF HOMELAND SECURITY

U.S. Citizenship and Immigration Services

[CIS No. 2522-12; DHS Docket No. USCIS 2012-0007]

RIN 1615-ZB12

Designation of Syrian Arab Republic for Temporary Protected Status

AGENCY: U.S. Citizenship and Immigration Services, DHS.

ACTION: Notice.

SUMMARY: Through this notice, the Department of Homeland Security (DHS) announces that the Secretary of Homeland Security (Secretary) has designated the Syrian Arab Republic (Syria) for Temporary Protected Status (TPS) for a period of 18 months, effective March 29, 2012 through September 30, 2013. Under section 244(b)(1) of the Immigration and Nationality Act (Act), 8 U.S.C. 1254a(b)(1), the Secretary is authorized to grant TPS to eligible nationals of designated foreign states or parts of such states (or to eligible aliens having no nationality who last habitually resided in such states) upon finding that such states are experiencing an ongoing armed conflict, an environmental disaster, or extraordinary and temporary conditions that prevent nationals from returning in safety.

This designation allows eligible Syrian nationals (and aliens having no nationality who last habitually resided in Syria) who have both continuously resided in and been continuously physically present in the United States since March 29, 2012 to be granted TPS. This notice also describes the other eligibility criteria applicants must meet.

Individuals who believe they may qualify for TPS under this designation may apply within the 180-day registration period that begins on March 29, 2012. They may also apply for Employment Authorization Documents (EADs) and for travel authorization. In this notice, DHS also sets forth the procedures for nationals of Syria (or aliens having no nationality who last habitually resided in Syria) to apply for TPS and EADs with U.S. Citizenship and Immigration Services (USCIS).

DATES: This designation of Syria for TPS is effective on March 29, 2012 and will remain in effect through September 30, 2013. The 180-day registration period for eligible individuals to submit TPS applications begins March 29, 2012, and will remain in effect through September 30, 2013.

FOR FURTHER INFORMATION CONTACT:

• For further information on TPS, including guidance on the application process and additional information on eligibility, please visit the USCIS TPS Web page at http://www.uscis.gov/tps. You can find specific information about this designation of Syria for TPS by selecting “TPS Designated Country—Syria” from the menu on the left of the TPS Web page.

• You can also contact the TPS Operations Program Manager at Status and Family Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online available at the USCIS Web site at http://www.uscis.gov, or call the USCIS National Customer Service Center at 1-800-375-5283 (TTY 1-800-767-1833).

• Further information will also be available at local USCIS offices upon publication of this notice.

SUPPLEMENTARY INFORMATION:

Abbreviations and Terms Used in This Document

Act—Immigration and Nationality Act

BIA—Board of Immigration Appeals

COI—Independent International Commission of Inquiry, established pursuant to United Nations (UN) Human Rights Council resolution S-17/1 to investigate all alleged violations of international human rights law since March 2011 in the Syrian Arab Republic

COI Report—“Report of the Independent International Commission of Inquiry on the Syrian Arab Republic,” dated 22 February 2012, UN Doc. A/HRC/19/69

DHS—U.S. Department of Homeland Security

DOJ—U.S. Department of Justice

DOS—U.S. Department of State

EAD—Employment Authorization Document

FSA—Free Syrian Army

Government—U.S. Government

HRC—United Nations Human Rights Council

IJ—Immigration Judge

OSC—U.S. Department of Justice, Office of Special Counsel for Immigration-Related Unfair Employment Practices

SARG—Syrian Arab Republic Government

SAVE—Systematic Alien Verification for Entitlements

Secretary—Secretary of Homeland Security

Syria—Syrian Arab Republic

TPS—Temporary Protected Status

UN—United Nations

UNHCR—Office of the United Nations High Commissioner for Refugees

USCIS—U.S. Citizenship and Immigration Services

What is Temporary Protected Status (TPS)?

• TPS is an immigration status granted to eligible nationals of a country designated for TPS under the Act (or to persons without nationality who last habitually resided in the designated country).

• During the TPS designation period, TPS beneficiaries are eligible to remain in the United States and obtain an EAD following a request and payment of the EAD fee, if required, so long as they continue to meet the requirements of TPS.

• TPS beneficiaries may also be granted travel authorization as a matter of discretion.

• The granting of TPS does not lead to permanent resident status.

• When the Secretary terminates a country's TPS designation, beneficiaries return to the same immigration status they maintained before TPS (unless that status has since expired or been terminated) or to any other lawfully obtained immigration status they received while registered for TPS.

• TPS applicants are subject to thorough background and security checks. Applicants who have committed a felony or two misdemeanors in the United States and applicants who are subject to certain other mandatory bars, including those who pose a threat to U.S. national security, are not eligible.

What authority does the Secretary have to designate Syria for TPS?

Section 244(b)(1) of the Act, 8 U.S.C. 1254a(b)(1), authorizes the Secretary, after consultation with appropriate Government agencies, to designate a foreign state (or part thereof) for TPS.¹ The Secretary can designate a foreign state for TPS based on one of three circumstances. One circumstance is if “there exist extraordinary and temporary conditions in the foreign state that prevent aliens who are nationals of the state from returning to the state in safety, unless the [Secretary] finds that permitting the aliens to remain temporarily in the United States is contrary to the national interest of the United States.” Section 244(b)(1)(C) of the Act, 8 U.S.C. 1254a(b)(1)(C).

¹ As of March 1, 2003, in accordance with section 1517 of title XV of the Homeland Security Act of 2002 (HSA), Public Law 107-296, 116 Stat. 2135, any reference to the Attorney General in a provision of the Act describing functions transferred from the Department of Justice to the DHS “shall be deemed to refer to the Secretary” of Homeland Security. See 6 U.S.C. 557 (codifying HSA, tit. XV, sec. 1517).

Following the designation of a foreign state for TPS, the Secretary may then grant TPS to eligible nationals of that foreign state (or aliens having no nationality who last habitually resided in that state). See section 244(a)(1)(A) of the Act, 8 U.S.C. 1254a(a)(1)(A). Applicants must demonstrate that they satisfy all eligibility criteria, including that they have been “continually physically present” in the United States since the effective date of the designation, which is either the date of the Federal Register notice announcing the designation or such later date as the Secretary may determine, and that they have “continuously resided” in the United States since such date as the Secretary may designate. See sections 244(a)(1)(A), (b)(2)(A), and (c)(1)(A)(i-ii) of the Act; 8 U.S.C. 1254a(a)(1)(A), (b)(2)(A), (c)(1)(A)(i-ii).

Why is the Secretary designating Syria for TPS through September 30, 2013?

The Secretary has determined, after consultation with the Department of State (DOS) and other appropriate Government agencies, that there exist extraordinary and temporary conditions in Syria that prevent Syrian nationals from returning in safety, and that permitting such aliens to remain temporarily in the United States would not be contrary to the national interest of the United States.

Protest crowds began to gather in Damascus and Dar'a by mid to late March 2011, when citizens seeking greater political freedom rose up against the rule of President Bashar al-Assad. In response, President al-Assad used the military to suppress the movement, and the Syrian Arab Republic Government (SARG) launched a brutal crackdown, violently repressing and killing thousands of its own civilians. The SARG continues to use excessive force against civilians, arbitrary executions, killing and persecution of protestors and members of the media, arbitrary detention, disappearances, torture, and ill-treatment in an effort to retain control of the country.

The Independent International Commission of Inquiry (COI), in its second report to the United Nations Human Rights Council (HRC) dated February 22, 2012 (A/HRC/19/69), reports that the SARG's initial violent suppression of dissent was followed by military defections and the formation of anti-government armed groups. The main armed opposition group is the Free Syrian Army (FSA). Other anti-government armed groups include the Higher Military Council and Al Faroukh Battalion, both of which are engaged in combat with the Syrian security forces in Homs. According to the COI report, while anti-government groups have also committed abuses, their actions are not comparable in scale or organization to those carried out by the Syrian state.

The COI report states that army snipers and Shabbiha (mercenaries hired by the SARG) have terrorized the population, targeting and killing small children, women, and other unarmed civilians. Military defectors report that soldiers continue to receive “shoot to kill” orders. Individual officers in the Syrian military have also shot unarmed protestors, including children, medical doctors, ambulance drivers, and mourners at funerals in Da'ra, Rif Dimashq, and Almastoumah governates.

Observers generally agree that the conflict has become increasingly violent and militarized. As of February 2012, the UN Under-Secretary-General for Political Affairs indicated that approximately 7,500 Syrians have been killed since the violence began, and new casualties are reported daily. The COI report pointed out that “casualties rose steeply as the violence intensified” in recent months. In fact, the UN's February 2012 death toll estimate of 7,500 exceeds its January 2012 estimate by 2,100 deaths. As of February 2012, public UN estimates indicated that between 100,000 and 200,000 Syrians are internally displaced, and as many as 500,000 citizens may be trapped in affected areas within Syria. According to the Office of the UN High Commissioner for Refugees (UNHCR), approximately 35,000 Syrians have sought shelter in the neighboring countries of Turkey, Lebanon, and Jordan.

The deteriorating security situation in Syria compelled the United States to suspend Embassy operations on February 6, 2012, and order the departure of all U.S. direct-hire personnel from the country. Several other diplomatic missions have also suspended operations due to security concerns. On April 25, 2011, DOS advised all United States citizens to avoid travel to Syria and urged United States citizens in Syria to depart immediately. DOS has reiterated the travel warning several times, most recently on March 6, 2012.

The international community has responded to the crisis in Syria by imposing economic sanctions. The regime's economic mismanagement and economic sanctions have negatively affected the whole of the Syrian economy. According to the COI report, the prices of basic food items have increased by as much as 37 percent, and the unemployment rate is in the range of 22 to 30 percent. The economy is estimated to have shrunk by 2 to 4 percent in 2011, and a higher drop is expected in 2012. Tourism, which accounted for 6 to 9 percent of Syria's gross domestic product, has collapsed.

Thousands of Syrians have been uprooted from their communities and sought shelter in Turkey, Lebanon, and Jordan. Many of those that remain in the country are trapped in danger zones and are experiencing the effects of the economic sanctions. As of June 2011, UNHCR reports an estimated 10,000 Syrians are displaced in Turkey. Approximately 15,000 Syrians are displaced in Lebanon. Although in January 2012 Jordan reported that it formally hosts 2,500 to 3,000 Syrians displaced by violence, UNHCR estimates approximately 10,000 displaced Syrians are in Jordan. In February 2012, Jordan government sources stated that approximately 73,000 Syrians have entered Jordan through border crossings.

Journalists and bloggers have been subject to harm, including arrest, prolonged detention, and death. Reports also indicate that medical doctors providing treatment to wounded members of the opposition have been arrested. The campaign group Avaaz, which has been monitoring attacks on medical workers, recorded more than 250 arrests between March and October 2011. This has led to the establishment of clandestine makeshift clinics in mosques and basements of homes. According to the UN General Assembly's Conflict-related sexual violence: report of the Secretary-General, published in January 2012, reports of conflict-related sexual violence from both Syrian security forces and anti-government armed groups also have surfaced.

International humanitarian organizations face significant obstacles to gaining access to Syrian cities such as Homs and Hama that are crippled by the brutality and violence. As a result, they cannot assure humanitarian assistance to citizens in need of emergency relief, including medical care, food, and other supplies.

Given extraordinary and temporary conditions on the ground in Syria, Syrian nationals in the United States would face serious danger and threats were they to return to Syria.

Based upon this review, and after consultation with appropriate Government agencies, the Secretary finds that:

• Syrian nationals cannot return to Syria in safety due to extraordinary and temporary conditions. See section 244(b)(1)(C) of the Act, 8 U.S.C. 1254a(b)(1)(C);

• It is not contrary to the national interest of the United States to permit Syrian nationals (and persons without nationality who last habitually resided in Syria) who meet the eligibility requirements of TPS to remain in the United States temporarily. See section 244(b)(1)(C), 8 U.S.C. 1254a(b)(1)(C);

• The designation of Syria for TPS should be for an 18-month period from March 29, 2012 through September 30, 2013. See section 244(b)(2) of the Act, 8 U.S.C. 1254a(b)(2);

• The date by which Syrian TPS applicants must demonstrate that they have continuously resided in the United States is established as March 29, 2012. See section 244(c)(1)(A)(ii) of the Act, 8 U.S.C. 1254a(c)(1)(A)(ii);

• The date by which Syrian TPS applicants must demonstrate that they have been continuously physically present in the United States is March 29, 2012, the effective date of this TPS designation of Syria. See sections 244(b)(2)(A) and (c)(1)(A)(i) of the Act; 8 U.S.C. 1254a(b)(2)(A), (c)(1)(A)(i); and

• An estimated 2,500 to 3,000 Syrian nationals (and persons without nationality who last habitually resided in Syria) may be eligible for TPS under this designation, based on the issuance of nonimmigrant visas to Syrian nationals.

Notice of the Designation of Syria for TPS

By the authority vested in me as Secretary under section 244 of the Act, 8 U.S.C. 1254a, after consultation with the appropriate Government agencies, I designate Syria for TPS under section 244(b)(1)(C) of the Act, 8 U.S.C. 1254a(b)(1)(C), for a period of 18 months from March 29, 2012 through September 30, 2013.

Janet Napolitano,
Secretary.

Required Application Forms and Application Fees To Register for TPS

To register for TPS for Syria, an applicant must submit:

1. Application for Temporary Protected Status (Form I-821) with the form fee; and

2. Application for Employment Authorization (Form I-765).

• If you want an EAD you must pay the Application for Employment Authorization (Form I-765) fee only if you are age 14 through 65.

• No Application for Employment Authorization (Form I-765) fee is required for an EAD with an initial TPS application if you are under the age of 14 or over the age of 65.

You must submit both completed application forms together. If you are unable to pay the required fees, you may apply for a waiver for these application fees and/or the biometrics services fee described below by completing a Request for Fee Waiver (Form I-912), or submitting a personal letter requesting a fee waiver, and providing satisfactory supporting documentation. For more information on the application forms and fees for TPS, please visit the USCIS TPS Web page at http://www.uscis.gov/tps. Fees for Application for Temporary Protected Status (Form I-821), Application for Employment Authorization (Form I-765), and biometric services are also described in 8 CFR 103.7(b).

Biometric Services Fee

Biometrics (such as fingerprints) are required for all applicants 14 years of age or older. Such applicants must submit a biometric services fee. As previously stated, if you are unable to pay the required fees, you may apply for a biometrics fee waiver by completing a Request for Fee Waiver (Form I-912), or by submitting a personal letter requesting a fee waiver, and providing satisfactory supporting documentation. For more information on the biometric services fee, please visit the USCIS Web site at http://www.uscis.gov/feewaiver. If your biometrics are required, you will be mailed a notice scheduling you for an appointment at an Application Support Center to have your biometrics collected.

Re-Filing a TPS Application After Receiving a Denial of a Fee Waiver Request

If you request a fee waiver when filing your TPS and EAD application forms and your request is denied, you may re-file your application packet with the correct fees before the filing deadline of September 30, 2013. If you attempt to submit your application with a fee waiver request before the initial filing deadline, but you receive your application back with the USCIS fee waiver denial, and there are fewer than 45 days before the filing deadline (or the deadline has passed), you may still re-file your application within the 45-day period after the date on the USCIS fee waiver denial notice. You must include the correct fees, or file a new fee waiver request. Your application will not be rejected even if the deadline has passed, provided it is mailed within those 45 days and all other required information for the application is included. Please be aware that if you re-file your TPS application with a new fee waiver request after the deadline based on this guidance and that new fee waiver request is denied, you cannot re-file again. Note: Alternatively, you may pay the TPS application fee and biometrics fee (if age 14 or older) but wait to request an EAD and pay the EAD application fee after USCIS grants your TPS application.

Mailing Information

Mail your application for TPS to the proper address in Table 1:

Table 1—Mailing Address
If . . . | Mail to . . .
You are applying through the U.S. Postal Service | USCIS, P.O. Box 6943, Chicago, IL 60680-6943.
You are using a Non-U.S. Postal Service delivery service | USCIS, Attn: Syria TPS, 131 S. Dearborn 3rd Floor, Chicago, IL 60603-5517.

If you were granted TPS by an Immigration Judge (IJ) or the Board of Immigration Appeals (BIA), and you wish to request an EAD, please mail your application to the address in Table 1. Upon receiving a Receipt Notice from USCIS, please send an email to TPSijgrant.vsc@uscis.dhs.gov with the receipt number stating that you submitted a request for an EAD based on an IJ/BIA grant of TPS. You can find detailed information on what further information you need to email, and email addresses on the USCIS TPS Web page at http://www.uscis.gov/tps.

E-Filing

You cannot electronically file your application when applying for initial registration for TPS. Please mail your application to the mailing address listed in Table 1.

Supporting Documents

What type of basic supporting documentation must I submit?

To meet the basic eligibility requirements for TPS, you must submit evidence that you:

• Are a national of Syria or an alien of no nationality who last habitually resided in Syria. Such documents may include a copy of your passport if available, other documentation issued by the SARG showing your nationality (e.g., national identity card, official travel documentation issued by the SARG), and/or your birth certificate with English translation accompanied by photo identification. USCIS will also consider certain forms of secondary evidence supporting your Syrian nationality. If the evidence presented is insufficient for USCIS to make a determination as to your nationality, USCIS may request additional evidence. If you cannot provide a passport, birth certificate with photo identification, or a national identity document with your photo or fingerprint, you must submit an affidavit showing proof of your unsuccessful efforts to obtain such documents and affirming that you are a national of Syria. However, please be aware that an interview with an immigration officer will be required if you do not present any documentary proof of identity or nationality or if USCIS otherwise requests a personal appearance. See 8 CFR 103.2(b)(9), 244.9(a)(1);

• Have continually resided in the United States since March 29, 2012. See 8 CFR 244.9(a)(2);

• Have been continually physically present in the United States since March 29, 2012, the effective date of the designation of Syria. See sections 244(b)(2)(A) and (c)(1)(A)(i) of the Act; 8 U.S.C. 1254a(b)(2)(A), (c)(1)(A)(i); and

• Present two color passport-style photographs of yourself.

The filing instructions on the Application for Temporary Protected Status (Form I-821) list all the documents needed to establish basic eligibility for TPS. You may also see information on the acceptable documentation and other requirements for applying for TPS on the USCIS Web site at www.uscis.gov/tps under “TPS Designated Country—Syria.”

Do I need to submit additional supporting documentation?

If one or more of the questions listed in Part 4, Question 2 of the Application for Temporary Protected Status (Form I-821) applies to you, then you must submit an explanation on a separate sheet(s) of paper and/or additional documentation. Depending on the nature of the question(s) you are addressing, additional documentation alone may suffice, but usually a written explanation will also be needed.

Employment Authorization Document (EAD)

May I request an interim EAD at my local USCIS office?

No. USCIS will not issue interim EADs to TPS applicants at local offices.

When hired, what documentation may I show to my employer as proof of employment authorization and identity when completing Employment Eligibility Verification (Form I-9)?

You can find a list of acceptable document choices on page 5 of the Employment Eligibility Verification (Form I-9). Employers are required to verify the identity and employment authorization of all new employees by using the Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.”

Can my employer require that I produce any other documentation to prove my status, such as proof of my Syrian citizenship?

No. When completing the Employment Eligibility Verification (Form I-9), employers must accept any documentation that appears on the lists of acceptable documentation, and that reasonably appears to be genuine and that relates to you. Employers may not request documentation that does not appear on the Employment Eligibility Verification (Form I-9). Therefore, employers may not request proof of Syrian citizenship when completing the Employment Eligibility Verification (Form I-9). If presented with EADs that are unexpired on their face, employers should accept such EADs as valid “List A” documents so long as the EADs reasonably appear to be genuine and to relate to the employee. Refer to the “Note to All Employees” section for important information about your rights if your employer rejects lawful documentation, requires additional documentation, or otherwise discriminates against you because of your citizenship or immigration status, or national origin.

Note to All Employers

Employers are reminded that the laws requiring employment eligibility verification and prohibiting unfair immigration-related employment practices remain in full force. This notice does not supersede or in any way limit applicable employment verification rules and policy guidance, including those rules setting forth reverification requirements. For questions, employers may call the USCIS Customer Assistance Office at 1-800-357-2099. The USCIS Customer Assistance Office accepts calls in English and Spanish only. Employers may also call the Department of Justice (DOJ), Office of Special Counsel for Immigration-Related Unfair Employment Practices (OSC), Employer Hotline at 1-800-255-8155.

Note to Employees

Employees or applicants may call the DOJ OSC Worker Information Hotline at 1-800-255-7688 for information regarding employment discrimination based upon citizenship or immigration status and national origin, unfair documentary practices related to the Employment Eligibility Verification (Form I-9), and discriminatory practices related to E-Verify. Employers must accept any document or combination of documents acceptable for the Employment Eligibility Verification (Form I-9) completion if the documentation reasonably appears to be genuine and to relate to the employee. Employers may not require extra or additional documentation beyond what is required for the Employment Eligibility Verification (Form I-9) completion. Further, employees who receive an initial mismatch via E-Verify must be given an opportunity to challenge the mismatch, and employers are prohibited from taking adverse action against such employees based on the initial mismatch unless and until E-Verify returns a final non-confirmation. The Hotline accepts calls in multiple languages. Additional information is available on the OSC Web site at http://www.justice.gov/crt/about/osc/.

Note Regarding Federal, State and Local Government Agencies (Such as Departments of Motor Vehicles)

State and local government agencies are permitted to create their own guidelines when granting certain benefits. Each state may have different laws, requirements, and determinations about what documents you need to provide to prove eligibility for certain benefits. If you are applying for a state or local government benefit, you may need to provide the state or local government agency with documents that show you are a TPS beneficiary and/or show you are authorized to work based on TPS. Examples are:

(1) Your EAD that has a valid expiration date; and/or

(2) A copy of your Application for Temporary Protected Status Approval Notice (Form I-797), if you receive one from USCIS.

Check with the state or local agency regarding which document(s) the agency will accept. You may also provide the agency with a copy of this notice.

Some benefit-granting agencies use the Systematic Alien Verification for Entitlements (SAVE) Program to verify the current immigration status of applicants for public benefits. If such an agency has denied your application based solely or in part on a SAVE response following completion of all required SAVE verification steps, the agency must offer you the opportunity to appeal the decision in accordance with the agency's procedures. If the agency has completed all SAVE verification and you do not believe the response is correct, you may make an InfoPass appointment for an in-person interview at a local USCIS office. Detailed information on how to make corrections, make an appointment, or submit a written request can be found at the SAVE Web site at www.uscis.gov/save, then by choosing “How to Correct Your Records” from the menu on the right.

[FR Doc. 2012-7498 Filed 3-28-12; 8:45 am]

BILLING CODE 9111-97-P